DEPARTMENT OF AGRICULTURE

Forest Service

Middle Fork John Day Range Planning on the Blue Mountain and Prairie City Ranger Districts; Malheur National Forest; Grant Count, OR

AGENCY: Forest Service, USDA.

ACTION: Revised notice of intent to prepare an environmental impact statement.

SUMMARY: On February 25, 1999, the USDA Forest Service published a Notice of Intent (NOI) in the Federal Register (64 FR 9305) to prepare an environmental impact statement (EIS) to update range management planning on 8 livestock grazing allotments which will result in the development of new Allotment Management Plans (AMPs). The Forest Service is revising the name of the analysis, the proposed action, the dates the EIS is expected to be available for public review and comment, and the release of the final EIS.

The revised NOI changes the name of this project to reflect an official change in Ranger District names. The new project name replaces Long Creek/Bear Valley Ranger District with Blue Mountain Ranger District. The revised proposed action includes constructing or reconstructing 12 additional water developments and 31 additional miles of fence across the project area. It also added repairing an irrigation ditch and relocating unit fences in Camp Creek allotment. The revised proposed action would adjust three allotments in the following ways—the number of units in the Lower Middle Fork allotment would be increased from five to seven units; the Austin allotment would be incorporated into the Upper Middle Fork Allotment and used as a holding/gathering pasture (rather than eliminated and fences removed); in addition, 80 acres of the Austin Allotment within the Middle Fork John Day River riparian zone would be excluded from livestock grazing (to reduce potential effects to aquatic species). The revised proposed action no longer involves eradication of noxious weeds. This activity will be analyzed in a Region 6 EIS and has been analyzed in a Malheur National Forest Environmental Assessment. Additionally, 5,m000 acres of prescribed burning to improve forage production and some fence and cattleguard construction has already been completed and will no longer be included in the revised proposed action.

Management actions are planned to be implemented beginning in the year 2004. The revised date of filing the draft EIS is January 2003, and the revised date of filing the final EIS is June 2003.

DATES: Comments concerning the scope of this revised analysis should be received in writing by September 16, 2002.

ADDRESSES: Send written comments to the Forest Supervisor, Malheur National Forest, 431 Patterson Bridge Road, PO Box 909, John Day, Oregon 97845.

FOR FURTHER INFORMATION CONTACT: Ken Scheutz, Interdisciplinary Team Leader, Malheur National Forest, 431 Patterson Bridge Road, PO Box 909, John Day, Oregon 97845, phone: (541) 575-3000, or TTD: (541) 575-3089.

Dated: August 12, 2002.
Robert W. Williams,
Acting Forest Supervisor.

[FR Doc. 02-20946 Filed 8-16-02; 8:45 am]

BILLING CODE 3410-11-M